DEPARTMENT OF ENERGY

Federal Energy Regulatory Commission

[Docket No. CP01-95-000]

Nornew Energy Supply, Inc.; Notice of Application

March 19, 2001.

Take notice that on March 1, 2001, Nornew Energy Supply, Inc. (Nornew), 19 Ivy Street, Jamestown, New York 14701, filed in the above docket, pursuant to sections 7(b) and 7(c) of the Natural Gas Act (NGA) as amended, 15 USC 717f(b) and 717f(c), and Part 284 of the Federal Energy Regulatory Commission's regulations for a blanket certificate of public convenience and necessity pursuant to Subpart G of Part 284 of the Commission's regulations authorizing Nornew to provide firm and interruptible transportation services on an open-access basis. In addition, Nornew requests waiver of the reporting and accounting requirements of Parts 201, 250, 260, and 284 of the Commission's regulations; and the Electronic Data Interchange, Electronic Delivery Mechanism, business practices and electronic communication requirements of the Gas Industry Standards Board. The filing may be viewed at http://www.ferc.fed.us/online/rims.htm (call 202-208-2222 for assistance).

Any person desiring to be heard or to make any protest with reference to said application should on or before April 9, 2001, file with the Federal Energy Regulatory Commission, 888 First Street, N.E., Washington, D.C. 20426, a motion to intervene or a protest in accordance with the requirements of the Commission's Rules of Practice and Procedure (18 CFR 385.214 or 385.211) and the Regulations under the NGA (18 CFR 157.10). All protests filed with the Commission will be considered by it in determining the appropriate action to be taken but will not serve to make the protestants parties to the proceeding. Any person wishing to become a party to a proceeding or to participate as a party in any hearing therein must file a motion to intervene in accordance with the Commission's Rules. Any questions regarding the application should be directed to Oivind Risberg, President, Nornew Energy Supply, Inc., 2500 Tanglewilde, Suite 250, Houston, Texas 77063, telephone (713) 975-1900.

Comments, protests, and interventions may be filed electronically via the internet in lieu of paper. See, 18 CFR 385.2001(a)(1)(iii) and the instructions on the Commission's web site at http://www.ferc.fed.us/efi/doorbell.htm.

David P. Boergers,
Secretary.

[FR Doc. 01-7278 Filed 3-22-01; 8:45 am]

BILLING CODE 6717-01-M